DEPARTMENT OF LABOR

Employment and Training Administration

[TA-W-40,853]

Hayes Lemmerz International, Inc., Wheels Business Unit, Somerset, KY, Including Leased Workers of Manpower Temporary Services, Somerset, KY, Job Shop Temporary Services, Somerset, KY, CBS Personnel Services, Cincinnati, OH, Technical Staffing Solutions, London, KY; Amended Certification Regarding Eligibility To Apply for Worker Adjustment Assistance

In accordance with section 223 of the Trade Act of 1974 (19 USC 2273) the Department of Labor issued a Certification of Eligibility to Apply for Worker Adjustment Assistance on March 25, 2002, applicable to workers of Hayes Lemmerz International, Inc., Wheels Business Unit, Somerset, Kentucky. The notice was published in the Federal Register on April 5, 2002 (67 FR 16441).

At the request of the State agency, the Department reviewed the certification for workers of the subject firm. Information provided by the State shows that some employees of Hayes Lemmerz International, Inc., Wheels Business Unit were leased from Manpower Temporary Services, Job Shop Temporary Services, CBS Personnel Services, and Technical Staffing Solutions to produce aluminum wheels for the automobile industry at the Somerset, Kentucky facility of the subject firm.

Worker separations occurred at these companies as a result of worker separations a Hayes Lemmerz International, Inc., Wheels Business Unit, Somerset, Kentucky.

Based on these findings, the Department is amending the certification to include leased workers producing aluminum wheels at the Somerset, Kentucky location of the subject firm.

The intent of the Department's certification is to include all workers of Hayes Lemmerz International, Inc., Wheels Business Unit adversely affected by increased imports.

The amended notice applicable to TA-W-40,853 is hereby issued as follows:

All workers of Hayes Lemmerz International, Inc., Wheels Business Unit, Somerset Kentucky, and leased workers of Manpower Temporary Services, Job Shop Temporary Services, Somerset, Kentucky, CBS Personnel Services, Cincinnati, Ohio and Technical Staffing Solutions, London, Kentucky, engaged in employment related to the production of aluminum wheels for the automobile industry for Hayes Lemmerz International, Inc., Wheels Business Unit, Somerset, Kentucky who became totally or partially separated from employment on or after November 26, 2000, through March 25, 2004, are eligible to apply for adjustment assistance under Section 223 of the Trade Act of 1974.

Signed at Washington, DC this 25th day of July, 2002.
Edward A. Tomchick,
Director, Division of Trade Adjustment Assistance.

[FR Doc. 02-19965 Filed 8-6-02; 8:45 am]

BILLING CODE 4510-30-P